DEPARTMENT OF TRANSPORTATION

Federal Aviation Administration

14 CFR Part 39

[Docket No. FAA-2012-0040; Directorate Identifier 2011-NM-121-AD; Amendment 39-17108; AD 2012-13-06]

RIN 2120-AA64

Airworthiness Directives; Airbus Airplanes

AGENCY: Federal Aviation Administration (FAA), Department of Transportation (DOT).

ACTION: Final rule.

SUMMARY: We are adopting a new airworthiness directive (AD) for all Airbus Model A300 series airplanes; all Model A300 B4-600, B4-600R, and F4-600R series airplanes, and Model 300 C4-605R Variant F airplanes (collectively called A300-600 series airplanes). This AD was prompted by reports of an inoperative fire shut-off valve (FSOV) as a result of damage due to over-length of the bonding lead. This AD requires a one-time detailed inspection for length of the FSOV bonding leads and for contact or chafing of the wires, and corrective actions, if necessary. We are issuing this AD to detect and correct contact or chafing of wires and bonding leads which, if not detected could be a source of sparks in the wing trailing edge, and could lead to an uncontrolled engine fire.

DATES: This AD becomes effective August 14, 2012.

The Director of the Federal Register approved the incorporation by reference of certain publications listed in this AD as of August 14, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone 425-227-2125; fax 425-227-1149.

SUPPLEMENTARY INFORMATION:

Discussion

We issued a notice of proposed rulemaking (NPRM) to amend 14 CFR part 39 to include an AD that would apply to the specified products. That NPRM was published in the Federal Register on February 6, 2012 (77 FR 5728). That NPRM proposed to correct an unsafe condition for the specified products. The MCAI states:

During a scheduled maintenance check, one operator reported inoperative FSOV [fire shut-off valve]. Investigations showed damage at wire located between engine 2 Hydraulic FSOV and wing rear spar, in the zones 575/675, and at bonding lead, located between wing Rib 7A and Rib 8 below Hydraulic Pressure Lines.

Similar inspections on different aeroplanes have shown that one of the causes of damage, is the contact between bonding lead and the harness, due to over length of the bonding lead.

As the affected wire is not powered during normal operation, no defect had been detected. The defect was detected when a test was performed on the FSOV during maintenance check by the operator.

This condition, in the scope of published FAA SFAR88 and JAA Internal Policy INT/POL/25/12, is considered to be a potential source of sparks in the wing trailing edge area and if not detected, could lead to an uncontrolled engine fire.

For the reasons stated above, this [EASA] AD requires a one-time [detailed] inspection of the wires [for contact or chafing] located between LH/RH engines Hydraulic FSOV and wing rear spar in the zones 575/675, and the bonding lead [for length] that is located between Rib 7A and Rib 8 below Hydraulic Pressure Lines, and corrective actions [repair wires or replace bonding leads] depending on findings.

You may obtain further information by examining the MCAI in the AD docket.

Comments

We gave the public the opportunity to participate in developing this AD. We have considered the comment received.

Request To Extend the Compliance Time

UPS Airlines requested that we extend the compliance time from 30 to 40 months after the effective date of the AD. The commenter stated the extension is a better fit within the operator's heavy maintenance program because the extended compliance time is more conducive to schedule-required aircraft ground time, labor, and parts acquisition. The commenter stated that the compliance time is too restrictive.

We do not agree with the commenter's request to extend the compliance time. In developing the proposed compliance time, we determined that the compliance time of 4,500 flight hours or 30 months after the effective date of the AD, whichever occurs first, is appropriate when considering the safety implications, the average utilization rate of the affected fleet, the practical aspects of an orderly inspection of the fleet during heavy maintenance checks, and the availability of required replacement parts. In addition, our compliance time corresponds with the compliance time of the parallel AD issued by European Aviation Safety Agency (EASA). We have not changed the AD in this regard.

Explanation of Change to AD

We have changed paragraph (i) of this AD to include a compliance time of “before further flight” for the wire repair. This compliance time was required by EASA AD 2011-0084, dated May 24, 2011, and was inadvertently omitted from the NPRM (77 FR 5728, February 6, 2012).

Conclusion

We reviewed the available data, including the comment received, and determined that air safety and the public interest require adopting the AD with the change described previously—and minor editorial changes. We have determined that these minor changes:

• Are consistent with the intent that was proposed in the NPRM (77 FR 5728, February 6, 2012) for correcting the unsafe condition; and

• Do not add any additional burden upon the public than was already proposed in the NPRM (77 FR 5728, February 6, 2012).

We also determined that these changes will not increase the economic burden on any operator or increase the scope of the AD.

Costs of Compliance

We estimate that this AD will affect 125 products of U.S. registry. We also estimate that it will take about 8 work-hours per product to comply with the basic requirements of this AD. The average labor rate is $85 per work-hour. Based on these figures, we estimate the cost of this AD to the U.S. operators to be $85,000, or $680 per product.

In addition, we estimate that any necessary follow-on actions would take about 1 work-hour and require parts costing $50, for a cost of $135 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 5728, February 6, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-13-06 Airbus: Amendment 39-17108. Docket No. FAA-2012-0040; Directorate Identifier 2011-NM-121-AD.

(a) Effective Date

This airworthiness directive (AD) becomes effective August 14, 2012.

(b) Affected ADs

None.

(c) Applicability

This AD applies to airplanes specified in paragraphs (c)(1), (c)(2) and (c)(3) of this AD; certificated in any category; all certificated models; all serial numbers.

(1) Airbus Model A300 B2-1A, B2-1C, B2K-3C, B2-203, B4-2C, B4-103, and B4-203 airplanes.

(2) Airbus Model A300 B4-601, B4-603, B4-620, B4-622, B4-605R, B4-622R, F4-605R, and F4-622 airplanes.

(3) Airbus Model A300 C4-605R Variant F airplanes.

(d) Subject

Air Transport Association (ATA) of America Code 24: Electrical Power.

(e) Reason

This AD was prompted by reports of an inoperative fire shut-off valve (FSOV) as a result of damage due to over-length of the bonding lead. We are issuing this AD to detect and correct contact or chafing of wires and bonding leads which, if not detected, could be a source of sparks in the wing trailing edge, and could lead to an uncontrolled engine fire.

(f) Compliance

You are responsible for having the actions required by this AD performed within the compliance times specified, unless the actions have already been done.

(g) Inspection of the FSOV Bonding Leads

Within 4,500 flight hours or 30 months after the effective date of this AD, whichever occurs first: Do a one-time detailed inspection for length of the FSOV bonding leads, and for contact or chafing of the wires located on left hand (LH) side and right-hand (RH) side of the wing rear spar, in accordance with the Accomplishment Instructions of Airbus Mandatory Service Bulletin A300-24-0106, dated July 9, 2010 (for Model A300 series airplanes); or Airbus Mandatory Service Bulletin A300-24-6108, dated July 9, 2010 (for Model A300-600 series airplanes).

(h) Corrective Action for FSOV Bonding Leads

If, during the inspection required by paragraph (g) of this AD, the length of the bonding lead(s) is more than 80 mm (3.15 inches), before further flight, replace the bonding lead(s) with a new bonding lead having a length equal to 80 mm (3.15 inches), in accordance with the Accomplishment Instructions of Airbus Mandatory Service Bulletin A300-24-0106, dated July 9, 2010 (for Model A300 series airplanes); or Airbus Mandatory Service Bulletin A300-24-6108, dated July 9, 2010 (for Model A300-600 series airplanes).

(i) Repair of the Wires of the LH and RH Sides

If, during the inspection required by paragraph (g) of this AD, contact(s) or chafing(s) of the wires is found, repair the wires, before further flight, in accordance with the Accomplishment Instructions of Airbus Mandatory Service Bulletin A300-24-0106, dated July 9, 2010 (for Model A300 series airplanes); or Airbus Mandatory Service Bulletin A300-24-6108, dated July 9, 2010 (for Model A300-600 series airplanes).

(j) Parts Installation Prohibition

As of the effective date of this AD, no person may install any bonding lead longer than 80 mm (3.15 inches), located between LH/RH engine hydraulic FSOV and wing rear spar in the zones 575/675 on any airplane.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone 425-227-2125; fax 425-227-1149.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI European Aviation Safety Agency (EASA) Airworthiness Directive 2011-0084, dated May 24, 2011, and the service information identified in paragraphs (l)(1) and (l)(2) of this AD, for related information.

(1) Airbus Mandatory Service Bulletin A300-24-0106, dated July 9, 2010.

(2) Airbus Mandatory Service Bulletin A300-24-6108, dated July 9, 2010.

(m) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A300-24-0106, excluding Appendix 01, and including Appendix 2, dated July 9, 2010.

(ii) Airbus Mandatory Service Bulletin A300-24-6108, excluding Appendix 01 and including Appendix 2, dated July 9, 2010.

(3) For service information identified in this AD, contact Airbus SAS—EAW (Airworthiness Office), 1 Rond Point Maurice Bellonte, 31707 Blagnac Cedex, France; telephone +33 5 61 93 36 96; fax +33 5 61 93 44 51; email: account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on June 21, 2012.
John P. Piccola,
Acting Manager, Transport Airplane Directorate, Aircraft Certification Service.

[FR Doc. 2012-15897 Filed 7-9-12; 8:45 am]

BILLING CODE 4910-13-P